DEPARTMENT OF ENERGY

Federal Energy Regulatory Commission

[Project No. 14867-000]

Scott's Mill Hydro, LLC; Notice of Intent To File License Application, Filing of Pre-Application Document, Approving Use of the Traditional Licensing Process

a. Type of Filing: Notice of Intent to File License Application and Request to Use the Traditional Licensing Process.

b. Project No.: 14867-000.

c. Date Filed: January 11, 2018.

d. Submitted By: Scott's Mill Hydro, LLC.

e. Name of Project: Scott's Mill Hydroelectric Project.

f. Location: On the James River, in Amherst and Bedford Counties, Virginia. No federal lands are occupied by the project works or located within the project boundary.

g. Filed Pursuant to: 18 CFR 5.3 of the Commission's regulations.

h. Potential Applicant Contact: Mark Fendig, Scott's Mill Hydro, LLC., P.O. Box 13, Coleman Falls, VA 24536; (540) 320-6762; email—mfendig@aisva.net.

i. FERC Contact: Jody Callihan at (202) 502-8278; or email at jody.callihan@ferc.gov.

j. Scott's Mill Hydro, LLC filed its request to use the Traditional Licensing Process on January 11, 2018. Scott's Mill Hydro, LLC provided public notice of its request on January 27, 2018. In a letter dated March 13, 2018, the Director of the Division of Hydropower Licensing approved Scott's Mill Hydro, LLC's request to use the Traditional Licensing Process.

k. With this notice, we are initiating informal consultation with the U.S. Fish and Wildlife Service and/or NOAA Fisheries under section 7 of the Endangered Species Act and the joint agency regulations thereunder at 50 CFR, Part 402; NOAA Fisheries under section 305(b) of the Magnuson-Stevens Fishery Conservation and Management Act and implementing regulations at 50 CFR 600.920. We are also initiating consultation with the Virginia State Historic Preservation Officer, as required by section 106 of the National Historic Preservation Act and the implementing regulations at 36 CFR 800.2.

l. With this notice, we are designating Scott's Mill Hydro, LLC as the Commission's non-federal representative for carrying out informal consultation pursuant to section 7 of the Endangered Species Act and section 305(b) of the Magnuson-Stevens Fishery Conservation and Management Act; and consultation pursuant to section 106 of the National Historic Preservation Act.

m. Scott's Mill Hydro, LLC filed a Pre-Application Document (PAD; including a proposed process plan and schedule) with the Commission, pursuant to 18 CFR 5.6 of the Commission's regulations.

n. A copy of the PAD is available for review at the Commission in the Public Reference Room or may be viewed on the Commission's website (http://www.ferc.gov), using the “eLibrary” link. Enter the docket number, excluding the last three digits in the docket number field to access the document. For assistance, contact FERC Online Support at FERCONlineSupport@ferc.gov, (866) 208-3676 (toll free), or (202) 502-8659 (TTY). Copies are also available for inspection and reproduction at 912 Wilson Highway, Mouth-of-Wilson, VA 24363.

o. Register online at http://www.ferc.gov/docs-filing/esubscription.asp to be notified via email of new filings and issuances related to this or other pending projects. For assistance, contact FERC Online Support.

Dated: March 13, 2018.
Kimberly D. Bose,
Secretary.

[FR Doc. 2018-05493 Filed 3-16-18; 8:45 am]

BILLING CODE 6717-01-P